CONSUMER PRODUCT SAFETY COMMISSION

Petition Requesting Performance Standards for a System To Reduce or Prevent Injuries From Contact With the Blade of a Table Saw (Petition No. CP 03-2); Extension of Comment Period

AGENCY: Consumer Product Safety Commission.

ACTION: Notice of extension of comment period.

SUMMARY: By notice in the Federal Register of July 9, 2003, 68 FR 40912, the Consumer Product Safety Commission (CPSC or Commission) invited comment on Petition No. CP 03-2, Petition Requesting Performance Standards for a System to Reduce or Prevent Injuries from Contact with the Blade of a Table Saw. In response to a request by the Power Tool Institute, Inc. to extend the comment period on the petition by 60 days, the Commission is extending it through Friday, November 7, 2003.

DATES: The Office of the Secretary must receive any comments on the petition not later than November 7, 2003.

ADDRESSES: Comments should be mailed, preferably in five copies, to the Office of the Secretary, Consumer Product Safety Commission, Washington, DC 20207-0001, or delivered to the Office of the Secretary, Consumer Product Safety Commission, Room 502, 4330 East-West Highway, Bethesda, Maryland 20814; telephone (301) 504-0800. Comments also may be filed by facsimile to (301) 504-0127 or by e-mail to cpsc-os@cpsc.gov. Comments should be captioned “Petition CP 03-2, Petition for Performance Standards for Table Saws.”

FOR FURTHER INFORMATION CONTACT: Rockelle Hammond, Office of the Secretary, Consumer Product Safety Commission, Washington, DC 20207; telephone (301) 504-6833, e-mail rhammond@cpsc.gov.

SUPPLEMENTARY INFORMATION: Copies of the petition may be obtained from the Office of the Secretary. A copy of the petition is available for inspection at the Commission's Public Reading Room, Room 419, 4330 East-West Highway, Bethesda, Maryland. The petition is also available on the CPSC World Wide Web site at: http://www.cpsc.gov/library/foia/foia03/petition/peti.html.

Comments on the petition must be received by the Office of the Secretary not later than Friday, November 7, 2003.

Dated: August 28, 2003.
Todd A. Stevenson,
Secretary, Consumer Product Safety Commission.

[FR Doc. 03-22586 Filed 9-4-03; 8:45 am]

BILLING CODE 6355-01-P